FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicant

Cargo Honduras, Inc., 13746 N Nebraska Avenue, Tampa, FL 33613, Officers: Fredy J. Starkman, President (Qualifying Individual), Rebecca Starkman, Vice President.

Non-Vessel—Operating Common Carrier and Ocean Freight Forwarder Transportation Intermediary Applicants

Global Freight Forwarders Inc., 72 Sharp Street, Suite C11, Hingham, MA 02043, Officers: Paul F. Kalita, Executive Vice President (Qualifying Individual), John M. Rooney, President.

Liberty Container Line, Inc., 600 Inwood Avenue North, Suite 160, Oakdale, MN 55128, Officers: Brad Heier, President (Qualifying Individual), Kenji Go, Director.

Ocean Freight Forwarder—Ocean Transportation Intermediary Applicants

Transglobal Logistics Inc., 200 Middlesex Essex Turnpike, Suite 200, Iselin, NJ 08830, Officers: Allan Joseph Couto, Secretary (Qualifying Individual), Ajay Sehgal, Director.

Transworld Auto, Inc., 5215 Stone Croft Trail, Atlanta, GA 30331, Officer: Jamal Kader, President (Qualifying Individual).

Dated: January 6, 2006.
Karen V. Gregory,
Assistant Secretary.

[FR Doc. E6-165 Filed 1-10-06; 8:45 am]

BILLING CODE 6730-01-P